SECURITIES AND EXCHANGE COMMISSION

[Release No. 34-74643A; File No. SR-NYSEMKT-2014-95]

Self-Regulatory Organizations; NYSE MKT LLC; Notice of Withdrawal of a Proposed Rule Change, as Modified by Partial Amendment No. 1 and Partial Amendment No. 2, Amending Rule 13—Equities and Related Rules Governing Order Types and Modifiers; Correction

April 9, 2015.

AGENCY: Securities and Exchange Commission.

ACTION: Notice; correction.

SUMMARY: The Securities and Exchange Commission published a document in the Federal Register on April 9, 2015, concerning a Notice of Withdrawal of a Proposed Rule Change, as Modified by Partial Amendment No. 1 and Partial Amendment No. 2, Amending Rule 13—Equities and Related Rules Governing Order Types and Modifiers. The document contained a typographical error.

FOR FURTHER INFORMATION CONTACT: Steve Kuan, Division of Trading and Markets, Securities and Exchange Commission, 100 F Street NE., Washington, DC 20549, (202) 551-5624.

Correction

In the Federal Register of April 9, FR Doc. 2015-8108, on page 19102, in the 13th line in the third column, correct the date “February 26, 2014” to “February 26, 2015.”

Dated: April 9, 2015.
Brent J. Fields,
Secretary.

[FR Doc. 2015-08629 Filed 4-14-15; 8:45 am]

BILLING CODE 8011-01-P